DEPARTMENT OF DEFENSE

Department of the Navy

Notice of Availability of Record of Decision for Medical Facilities Development and University Expansion at Naval Support Activity Bethesda, Bethesda, MD

AGENCY: Department of the Navy, DoD.

ACTION: Notice.

SUMMARY: The United States Department of the Navy (DoN), after carefully weighing the environmental consequences of the proposed actions, announces its decision to construct and operate the Medical Facilities Development (MFD) at Naval Support Activity (NSA) Bethesda, Bethesda, MD. DoN also announces its decision to construct and operate the expansion of the Uniformed Services University of the Health Sciences (USU or the University Expansion) at NSA Bethesda. The DoN has decided to implement the preferred alternatives for the MFD and University Expansion, as described in the MFD and University Expansion Final Environmental Impact Statement (EIS) dated July 2013. The preferred alternatives are also the Environmentally Preferable Alternatives.

The preferred alternative for the MFD will fully meet the Congressional mandate in the Fiscal Year 2010 National Defense Authorization Act to achieve the new statutory world-class standards for military medicine at the Walter Reed National Military Medical Center (WRNMMC) by providing enduring medical facilities commensurate in quality, capability and condition as those provided by the 2005 Base Realignment and Closure investment. The preferred alternative for the University Expansion will provide adequate education and research space to meet Military Health System commitments to deliver training and post-graduate level education to the military medical community and enable USU to serve as the core academic health research center at WRNMMC. The proposed actions will enhance and support but not add to the missions of the installation, medical center, or the USU.

SUPPLEMENTARY INFORMATION: The complete text of the Record of Decision (ROD) is available on the project Web site at http://www.wrnmmc.capmed.mil/PatientVisitors/SitePages/EIS.aspx, along with the Final EIS and supporting documents. Single copies of the ROD are available upon request by contacting: NSA Bethesda Public Affairs Office, Attn: Joseph Macri, 8901 Wisconsin Avenue, Building 11, Room 216, Bethesda, MD 20889, Telephone: 301-295-1803, and Email: NNMC.NSABethesdaEIS@health.mil.

Dated: September 3, 2013.
N.A. Hagerty-Ford,
Commander, Office of the Judge Advocate General, U.S. Navy, Federal Register Liaison Officer.

[FR Doc. 2013-22000 Filed 9-9-13; 8:45 am]

BILLING CODE P